DEPARTMENT OF COMMERCE

National Oceanic and Atmospheric Administration

50 CFR Part 679

[Docket No. 250312-0036; RTID 0648-XF374]

Fisheries of the Exclusive Economic Zone Off Alaska; Several Groundfish Species in the Bering Sea and Aleutian Islands Management Area

AGENCY: National Marine Fisheries Service (NMFS), National Oceanic and Atmospheric Administration (NOAA), Commerce.

ACTION: Temporary rule; apportionment of reserves; request for comments.

SUMMARY: NMFS apportions amounts of the nonspecified reserves to the total allowable catch (TAC) of “other flatfish” and octopuses. This action is necessary to allow the fisheries to continue operating. It is intended to promote the goals and objectives of the fishery management plan for the Bering Sea and Aleutian Islands Management (BSAI) management area.

DATES: Effective December 22, 2025, through 2400 hours, Alaska local time, December 31, 2025. Comments must be received at the following address no later than 4:30 p.m., Alaska local time, January 6, 2026.

ADDRESSES: You may submit comments on this document, identified by docket number NOAA-NMFS-2024-0116, by any of the following methods:

Electronic Submission: Submit all electronic public comments via the Federal e- Rulemaking Portal. Visit https://www.regulations.gov and type NOAA-NMFS-2024-0116 in the Search box. Click on the “Comment” icon, complete the required fields, and enter or attach your comments.

Mail: Submit written comments to Gretchen Harrington, Assistant Regional Administrator, Sustainable Fisheries Division, Alaska Region NMFS. Mail comments to P.O. Box 21668, Juneau, AK 99802-1668.

Instructions: Comments sent by any other method, to any other address or individual, or received after the end of the comment period may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Andrew Olson, 907-586-7228.

SUPPLEMENTARY INFORMATION: NMFS manages the groundfish fishery in the BSAI exclusive economic zone according to the Fishery Management Plan for Groundfish of the BSAI Management Area (FMP) prepared and recommended by the North Pacific Fishery Management Council under authority of the Magnuson-Stevens Fishery Conservation and Management Act (Magnuson-Stevens Act). Regulations governing fishing by U.S. vessels in accordance with the FMP appear at 50 CFR part 679 and subpart H of 50 CFR part 600.

The 2025 TAC for “other flatfish” was established as 5,225 metric tons (mt) by the final 2025 and 2026 harvest specifications for groundfish in the BSAI (90 FR 12640, March 18, 2025) and reapportionment of groundfish reserves (90 FR 27483, June 27, 2025).

The 2025 TAC and ITAC for octopuses was established as 400 mt and 340 mt, respectively, by the final 2025 and 2026 harvest specifications for groundfish in the BSAI (90 FR 12640, March 18, 2025).

In accordance with § 679.20(a)(3), the Regional Administrator, Alaska Region, NMFS, has reviewed the most current available data and finds that the TAC for “other flatfish” and octopuses needs to be supplemented from the nonspecified reserves to promote efficiency in the utilization of fishery resources in the BSAI and allow fishing operations to continue.

Therefore, in accordance with § 679.20(b)(3), NMFS apportions 600 mt from the nonspecified reserves of groundfish in the BSAI management area as follows: 500 mt to “other flatfish” and 100 mt to octopuses. This apportionment is authorized by § 679.20(b)(1)(i) and consistent with § 679.20(a)(3) and does not result in overfishing of any target species because the revised TACs are equal to or less than the specifications of the acceptable biological catch for “other flatfish” and octopuses in the final 2025 and 2026 harvest specifications for groundfish in the BSAI (90 FR 12640, March 18, 2025).

The harvest specifications for the 2025 TACs included in the final 2025 and 2026 harvest specifications for groundfish in the BSAI is revised as follows: 5,725 mt for “other flatfish” and 440 mt for octopuses.

Classification

NMFS issues this action pursuant to section 305(d) of the Magnuson-Stevens Act. This action is required by 50 CFR part 679, which was issued pursuant to section 304(b) of the Magnuson-Stevens Act, and is exempt from review under Executive Order 12866.

Pursuant to 5 U.S.C. 553(b)(B), there is good cause to waive prior notice and an opportunity for public comment on this action, as notice and comment would be impracticable and contrary to the public interest, as it would prevent NMFS from responding to the most recent fisheries data in a timely fashion and would delay the apportionment of the nonspecified reserves of groundfish to “other flatfish” and octopuses. This action is necessary for the efficient utilization of fishery resources in the BSAI and to allow the fisheries harvesting these groundfish to continue operating. NMFS was unable to publish a notice providing time for public comment because the most recent, relevant data on catch of “other flatfish” and octopuses only became available as of December 19, 2025. Finally, NMFS provided notice and an opportunity for public comment on the proposed 2025 and 2026 harvest specifications for groundfish in the BSAI that included the amount of proposed nonspecified reserves from which NMFS can apportion to any target species that contributed to that reserve (89 FR 96186, December 4, 2024). The final 2025 and 2026 harvest specifications for groundfish in the BSAI explained that, during the fishing year, any amount of the nonspecified reserve may be apportioned by NMFS to a target species that contributed to the nonspecified reserves consistent with § 679.20(b)(1)(i) (90 FR 12640, March 18, 2025).

There is good cause under 5 U.S.C. 553(d)(3) to make this action effective immediately upon filing with the Office of the Federal Register. This finding is based upon the reasons provided above for waiver of prior notice and opportunity for public comment.

Under § 679.20(b)(3)(iii), interested persons are invited to submit written comments on this action (see ADDRESSES section) until January 6, 2026.

Authority: 16 U.S.C. 1801 et seq.

Dated: December 19, 2025.
Kelly Denit,
Director, Office of Sustainable Fisheries, National Marine Fisheries Service.

[FR Doc. 2025-23776 Filed 12-22-25; 8:45 am]

BILLING CODE 3510-22-P